NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by January 4, 2019. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant Permit Application: 2019-016

Ashley Perrin, Antarctic Ice Pilot, for SY Destination, 14 Washington Ave., San Rafael, CA 94903.

Activity for Which Permit Is Requested

Waste Management. The applicant is requesting a permit for waste management activities associated with operating the yacht, SY Destination, in the Antarctic Treaty area for three weeks in January 2019. The cruise program would consist of a one-time voyage to Antarctica with operations in the Southern Ocean, Antarctic Peninsula region, and the South Shetland Islands. The applicant expects there to be a total of thirteen people total aboard the vessel during the voyage. Activities would include sightseeing, small boat cruising, brief shore excursions, polar plunging, snorkeling/diving, and operation of a remotely piloted aircraft system (RPAS) as a navigational and safety aid. The RPAS would consist of a small, camera-equipped quadcopter, operated by an experienced pilot, within visual line of sight, under fair weather conditions, and according to best operating practices. The yacht has an onboard sewage treatment plant that meets MARPOL standards. All food waste and garbage would be collected, maintained onboard the vessel, and properly disposed of outside the Treaty area. Best practices would be employed to mitigate the risk of accidental releases to the environment.

Location

Southern Ocean, Antarctic Peninsula region, South Shetland Islands.

Dates of Permitted Activities

January 3-24, 2019.

Suzanne H. Plimpton,
Reports Clearance Officer, National Science Foundation.

[FR Doc. 2018-26383 Filed 12-4-18; 8:45 am]

BILLING CODE 7555-01-P